DEPARTMENT OF AGRICULTURE

Commodity Credit Corporation

Information Collection; Conservation Reserve Program Hunting and Wildlife, Viewing, Other Recreation, Revenue Survey

AGENCY: Commodity Credit Corporation and Farm Service Agency, USDA.

ACTION: Notice; request for comments.

SUMMARY: In accordance with the Paperwork Reduction Act of 1995, the Farm Service Agency (FSA), on behalf of the Commodity Credit Corporation (CCC), is seeking comments from all interested individuals and organizations on an extension, with revision, of a currently approved information collection. The survey in this information collection is designed to analyze the effect of the CCC's Conservation Reserve Program (CRP) on opportunities for recreational activities, including hunting and fishing in accordance with the Food, Conservation and Energy Act of 2008 (the 2008 Farm Bill).

DATES: We will consider comments that we receive by June 8, 2009.

ADDRESSES: We invite you to submit comments on this notice. In your comments, include the date, volume, and page number of this issue of Federal Register. You may submit comments by any of the following methods:

• Mail: Farm Service Agency, USDA, Skip Hyberg, Agricultural Economist, USDA/FSA/EPAS, STOP-0519, 1400 Independence Avenue, SW., Washington, DC 20250.

• E-mail: Skip.Hyberg@wdc.usda.gov.

• Fax: (202) 690-2186.

You may also send comments to the Desk Officer for Agriculture, Office of Information and Regulatory Affairs, Office of Management and Budget, Washington, DC 20503. Copies of the information collection may be obtained from Skip Hyberg at the above address.

FOR FURTHER INFORMATION CONTACT: Skip Hyberg, Agricultural Economist, (202) 720-9222.

SUPPLEMENTARY INFORMATION:

Description of Information Collection

Title: Conservation Reserve Program Reserve Program, Hunting and Wildlife, Viewing Revenue Survey.

OMB Number: 0560-0259.

Type of Request: Revision.

Abstract: The survey is needed in implementing section 2606 of the 2008 Farm Bill (Pub. L. 110-246) to find out how CRP participants are providing recreational activities on their lands, how such activities affect the CRP program, and what revenues are generated by such activities. FSA, on behalf of the Commodity Credit Corporation, provides services to landowners under the CRP to help them conserve and improve soil, water, and wildlife resources on their lands. Some landowners have used their lands, enrolled in the CRP, to provide recreational activities (hunting, fishing, hiking, viewing and other activities) to outdoor recreationists.

Respondents: Landowners with land enrolled in the CRP.

Estimated Annual Number of Respondents: 3000.

Estimated Annual Number of Forms Per Person: 1.

Estimated Average Time to Respond: 5 minutes.

Estimated Total Annual Burden Hours: 250.

Comments Are Invited Regarding:

(1) Whether the collection of information is necessary for the proper performance of the functions of the agency, including whether the information will have practical utility;

(2) The accuracy of the agency's estimate of burden, including the validity of the methodology and assumption used;

(3) Ways to enhance the quality, utility and clarity of the information to be collected; and

(4) Ways to minimize the burden of the collection of information on those who are to respond, including through the use of appropriate automated, electronic, mechanical, or other technological collection techniques or other forms of information technology.

All comments received in response to this notice, including names and addresses when provided, will be a matter of public record. All comments will be summarized and included in the submission for OMB approval.

Dennis J. Taitano,
Acting Executive Vice President, Commodity Credit Corporation.

[FR Doc. E9-7764 Filed 4-7-09; 8:45 am]

BILLING CODE 3410-05-P